DEPARTMENT OF HEALTH AND HUMAN SERVICES

Administration for Children and Families

Request for Public Comment on the Improvement of the Adoption and Foster Care Analysis and Reporting System (AFCARS)

AGENCY: Administration on Children, Youth and Families (ACYF), ACF, HHS.

ACTION: Notice of request for public comment.

SUMMARY: Section 479 of the Social Security Act (the Act) requires that a system for the collection of data relating to adoption and foster care be developed and regulated. The resultant Adoption and Foster Care Analysis and Reporting System (AFCARS) has been operating since 1994 and is administered by the Children's Bureau in the Administration for Children and Families. The AFCARS collects case level information on all children in foster care for whom the State child welfare agency has responsibility for placement, care or supervision and on children who are adopted under the auspices of the State's public child welfare agency. In addition, ACF encourages States to report data on other types of adoptions.

Section 479(c) of the Act requires that the AFCARS system avoid unnecessary diversion of resources from agencies responsible for adoption and foster care and assure that the data collected is reliable and consistent over time. Given that the system has been operating since 1994, we believe it is time to assess the system to ensure that it continues to comport with the section 479(c) requirements and to identify what enhancements and system improvements might be needed.

DATES: Comments will be accepted until June 27, 2003.

ADDRESSES: E-mail written comments to the AFCARS Project@acf.hhs.gov (there is a space between “AFCARS” and “Project”), or send written comments to Children's Bureau, 330 C St., SW., Washington, DC 20447.

FOR FURTHER INFORMATION CONTACT: Questions regarding this announcement may be submitted to and will be answered by E-mail at the same e-mail address as above: AFCARS Project@acf.hhs.gov or via the above Children's Bureau address, Attention: Penelope L. Maza.

SUPPLEMENTARY INFORMATION:

AFCARS Background

In recent years, the Adoption and Foster Care Reporting System (AFCARS) has become the principal data source for information about State foster care and adoption populations. It was created, in part, due to concerns raised about the lack of national information available on children in foster care, their families, foster care settings and adopted children. In 1986, Congress amended title IV-E of the Social Security Act (the Act) by adding section 479, which requires the Federal government to institute a foster care and adoption data collection system In response to the law, in 1993, final rules for the Adoption and Foster Care Reporting System (AFCARS) were published and codified in Federal regulations at 45 CFR 1355.40 with requirements for States to report adoption and foster care data to a Federal system. As of October 1, 1994, States were required to collect and submit the AFCARS data to the Administration for Children and Families (ACF).

The AFCARS data are submitted semi-annually, in May and November. The Department aggregates the data both by State and nationally and makes it publicly available on the web at http://www.acf.hhs.gov/programs/cb. The appendices to the regulation, technical bulletins, and other AFCARS related resources are also located on the web at http://www.acf.hhs.gov/programs/cb/dis/index.htm.

AFCARS Current Uses

The purpose of the AFCARS is twofold: to address policy development and program management issues. Currently, AFCARS data is used in:

• Providing data for the calculation of the performance measures, statewide assessment and program improvement plans for the Child and Family Services (CFS) reviews;

• Drawing samples for the CFS reviews and the title IV-E eligibility reviews conducted by ACF;

• Providing data for the Child Welfare Outcomes Annual Report;

• Providing the primary data in the formula to distribute funds to States for the Chafee Foster Care Independence Program (CFCIP) under section 477 of the Act;

• Identifying the number of finalized adoptions for which a State may be awarded adoption incentive funds under the Adoption Incentive Program under section 473A of the Act;

• Targeting areas for greater or potential technical assistance efforts, for discretionary service grants, research and evaluation, and regulatory change;

• Generating short and long-term budget projections;

• Conducting trend analyses and short and long-term program planning;

• Responding to Congressional requests for current data on children in foster care or those who have been adopted;

• Responding to questions and requests from other Federal departments and agencies, including the General Accounting Office (GAO), the Office of Management and Budget (OMB), the DHHS Office of Inspector General (OIG), national advocacy organizations, States, and other interested organizations and individuals.

Future of AFCARS

At the time AFCARS was first implemented, the Children's Bureau committed to revisiting AFCARS to assure that the system was producing data that were useful to Federal and State governments and to the child welfare field. We are beginning the process of revising AFCARS to consider improvements that may make the data more accurate and useable by soliciting comments from interested parties. Please comment on any aspects of AFCARS that you wish. We are particularly interested in obtaining input on:

• The specific strengths of the AFCARS;

• The specific weaknesses of the AFCARS or suggestions for areas of improvement, including ideas about how the suggested improvement could be made and how the Federal government could facilitate the changes;

• Data elements currently in the AFCARS that could be deleted and any elements that should be added;

• Strategies to improve data quality for AFCARS, including the use of incentives.

We also invite comments based on your specific experience and use of:

(1) Demographic and other information on foster children, adopted children, foster parents, adoptive parents, birth parents, child descriptors such as disability status, prior adoption status, foster care information on current and previous foster care episodes and discharge;

(2) Financial information;

(3) How the data files are structured and how data are submitted.

Upon receipt of comments within 60-day comment period, ACF will analyze the comments and utilize them in determining the necessary next steps to improve AFCARS.

Dated: April 18, 2003.
Joan E. Ohl,
Commissioner, Administration on Children, Youth and Families.

[FR Doc. 03-10294 Filed 4-25-03; 8:45 am]

BILLING CODE 4184-01-M